DEPARTMENT OF ENERGY

Federal Energy Regulatory Commission

[Project No. 2701-061]

Erie Boulevard Hydropower, L.P.; Notice of Denial of Water Quality Certification

On February 26, 2021, Erie Boulevard Hydropower, L.P. (Erie) filed an application for a license for the West Canada Creek Hydroelectric Project (project) in the above captioned docket. Erie filed with the New York State Department of Environmental Conservation (New York DEC) a request for water quality certification for the project under section 401(a)(1) of the Clean Water Act on March 9, 2022. On March 7, 2023, New York DEC denied certification for the project. Pursuant to 40 CFR 121.8, we are providing notice that New York DEC's denial satisfies the requirements of 40 CFR 121.7(e).

Dated: March 16, 2023.
Kimberly D. Bose,
Secretary.

[FR Doc. 2023-05893 Filed 3-21-23; 8:45 am]

BILLING CODE 6717-01-P